DEPARTMENT OF DEFENSE

Office of the Secretary

32 CFR Part 199

Double Coverage

AGENCY: Office of the Secretary, Department of Defense (DoD).

ACTION: Technical amendment.

SUMMARY: This technical amendment is being published to correct an error that was codified in the Code of Federal Regulations (CFR) in 2003. A paragraph was inadvertently duplicated in 2003 and is now being removed.

DATES: This technical amendment is effective May 4, 2020.

FOR FURTHER INFORMATION CONTACT: Patricia Toppings, 571-372-0485.

SUPPLEMENTARY INFORMATION: On April 30, 2003 (68 FR 23030-23034), the Department of Defense published a final rule titled “TRICARE Program; Eligibility and Payment Procedures for Civilian Health and Medical Program of the Uniformed Services Beneficiaries Age 65 and Over,” which amended 32 CFR part 199.

On page 23032, an amendatory instruction requested to amend § 199.8 by “redesignating paragraph (c)(5) as (c)(6) and the second paragraph (c)(4) as (c)(5).”

The wording of this amendatory instruction led to a codification error which is still present in the CFR.

In 32 CFR 199.8, paragraphs (c)(5) and (c)(6) contain identical text. Only one of the paragraphs should remain in the CFR. Therefore, DoD is publishing this technical amendment to remove paragraph (c)(6) from 32 CFR 199.8.

It has been determined that publication of this CFR amendment for public comment is impracticable, unnecessary, and contrary to public interest since it is correcting a technical error.

This rule is not significant under Executive Order (E.O.) 12866, “Regulatory Planning and Review.” Therefore, E.O. 13771, “Reducing Regulation and Controlling Regulatory Costs,” does not apply.

List of Subjects in 32 CFR Part 199

Claims, Dental health, Health care, Health insurance, Individuals with disabilities, Mental health, Mental health parity, Military personnel.

Accordingly, 32 CFR part 199 is amended as follows:

PART 199—[AMENDED]

1. The authority citation for part 199 continues to read as follows:

Authority: 5 U.S.C. 301; 10 U.S.C. chapter 55.

§ 199.8 [Amended]

2. Amend § 199.8 by removing paragraph (c)(6).

Dated: April 20, 2020.
Aaron T. Siegel,
Alternate OSD Federal Register Liaison Officer, Department of Defense.

[FR Doc. 2020-08664 Filed 5-1-20; 8:45 am]

BILLING CODE 5001-06-P